DEPARTMENT OF ENERGY

Federal Energy Regulatory Commission

Combined Notice of Filings

Take notice that the Commission has received the following Natural Gas Pipeline Rate and Refund Report filings:

Filings Instituting Proceedings

Docket Numbers: RP17-237-000.

Applicants: ANR Pipeline Company.

Description: § 4(d) Rate Filing: Rate Schedule Revisions to be effective1/1/2017.

Filed Date: 12/1/16.

Accession Number: 20161201-5129.

Comments Due: 5 p.m. ET 12/13/16.

Docket Numbers: RP17-238-000.

Applicants: Rockies Express Pipeline LLC.

Description: § 4(d) Rate Filing: Neg Rate 2016-12-1 Encana, BP to be effective 12/1/2016.

Filed Date: 12/1/16.

Accession Number: 20161201-5256.

Comments Due: 5 p.m. ET 12/13/16.

Docket Numbers: RP17-239-000.

Applicants: Dominion Transmission, Inc.

Description: § 4(d) Rate Filing: DTI—December 1, 2016 Negotiated Rate Agreements to be effective 12/2/2016.

Filed Date: 12/1/16.

Accession Number: 20161201-5321.

Comments Due: 5 p.m. ET 12/13/16.

Docket Numbers: RP17-240-000.

Applicants: Rockies Express Pipeline LLC.

Description: § 4(d) Rate Filing: REX Interim FL&U Electric Power Rate Adjustment to be effective 1/1/2017.

Filed Date: 12/1/16.

Accession Number: 20161201-5342.

Comments Due: 5 p.m. ET 12/13/16.

Docket Numbers: RP17-241-000.

Applicants: Columbia Gas Transmission, LLC.

Description: § 4(d) Rate Filing: Negotiated Rate Service Agmts—Nytis to be effective 12/1/2016.

Filed Date: 12/1/16.

Accession Number: 20161201-5344.

Comments Due: 5 p.m. ET 12/13/16.

Docket Numbers: RP17-242-000.

Applicants: Columbia Gas Transmission, LLC.

Description: § 4(d) Rate Filing: Measurement Filing to be effective1/1/2017.

Filed Date: 12/1/16.

Accession Number: 20161201-5362.

Comments Due: 5 p.m. ET 12/13/16.

Docket Numbers: RP17-243-000.

Applicants: El Paso Natural Gas Company, L.L.C.

Description: § 4(d) Rate Filing: Non-Conforming Negotiated Rate Agreement (EWM) to be effective 1/1/2017.

Filed Date: 12/1/16.

Accession Number: 20161201-5368.

Comments Due: 5 p.m. ET 12/13/16.

Docket Numbers: RP17-244-000.

Applicants: Tallgrass Interstate Gas Transmission, L.

Description: § 4(d) Rate Filing: NRA Amend 2016/30/11 Hastings—Trenton to be effective 12/1/2016.

Filed Date: 12/1/16.

Accession Number: 20161201-5407.

Comments Due: 5 p.m. ET 12/13/16.

Docket Numbers: RP17-245-000.

Applicants: Transcontinental Gas Pipe Line Company.

Description: Compliance filing Refund Report—S-2 Customer Share of Texas Eastern OFO Penalty Disbursement.

Filed Date: 12/2/16.

Accession Number: 20161202-5077.

Comments Due: 5 p.m. ET 12/14/16.

Docket Numbers: RP17-246-000.

Applicants: Southern Natural Gas Company, L.L.C.

Description: § 4(d) Rate Filing: 2016 Expansion Negotiated Rate clean up filing to be effective 12/1/2016.

Filed Date: 12/2/16.

Accession Number: 20161202-5097.

Comments Due: 5 p.m. ET 12/14/16.

Docket Numbers: RP17-247-000.

Applicants: Rockies Express Pipeline LLC.

Description: § 4(d) Rate Filing: Neg Rate 2016-12-02 Rice (2 Ks) to be effective 12/5/2016.

Filed Date: 12/2/16.

Accession Number: 20161202-5167.

Comments Due: 5 p.m. ET 12/14/16.

Docket Numbers: RP17-248-000.

Applicants: Kern River Gas Transmission Company.

Description: Stipulation and Agreement of Stipulation [including Pro Forma sheets] for Alternate Period Two rates of Kern River Gas Transmission Company under RP17-248.

Filed Date: 12/1/16.

Accession Number: 20161201-5450.

Comments Due: 5 p.m. ET 12/12/16.

Reply Comments Due: 5 p.m. ET12/29/16.

Docket Numbers: RP17-249-000.

Applicants: Elba Express Company, L.L.C.

Description: § 4(d) Rate Filing: 2016 Expansion Negotiated Rate Clean-Up Filing to be effective 12/1/2016.

Filed Date: 12/2/16.

Accession Number: 20161202-5239.

Comments Due: 5 p.m. ET 12/14/16.

Docket Numbers: RP17-250-000.

Applicants: Eastern Shore Natural Gas Company.

Description: § 4(d) Rate Filing: Rate Schedule OPT Transportation Service to be effective 1/2/2017.

Filed Date: 12/2/16.

Accession Number: 20161202-5280.

Comments Due: 5 p.m. ET 12/14/16.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

Filings in Existing Proceedings

Docket Numbers: RP17-244-001.

Applicants: Tallgrass Interstate Gas Transmission, L.

Description: Tariff Amendment: Erata to NRA Amend Hastings—Trenton to be effective 12/1/2016.

Filed Date: 12/5/16.

Accession Number: 20161205-5000.

Comments Due: 5 p.m. ET 12/19/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 5, 2016.
Nathaniel J. Davis, Sr.,
Deputy Secretary.

[FR Doc. 2016-29560 Filed 12-8-16; 8:45 am]

BILLING CODE 6717-01-P